Title 3—

The President

Proclamation 7579 of July 26, 2002

Anniversary of the Americans with Disabilities Act, 2002

By the President of the United States of America

A Proclamation

The Americans with Disabilities Act of 1990 (ADA) is one of the most compassionate and successful civil rights laws in American history. In the 12 years since President George H. W. Bush signed the ADA into law, more people with disabilities are participating fully in our society than ever before. As we mark this important anniversary, we celebrate the positive effect this landmark legislation has had upon our Nation, and we recognize the important influence it has had in improving employment opportunities, government services, public accommodations, transportation, and telecommunications for those with disabilities.

Today, Americans with disabilities enjoy greatly improved access to countless facets of life; but more work needs to be done. We must continue to build on the important foundations established by the ADA. Too many Americans with disabilities remain isolated, dependent, and deprived of the tools they need to enjoy all that our Nation has to offer.

My Administration is committed to removing the barriers that prevent people with disabilities from realizing their full potential and achieving their dreams. The New Freedom Initiative, which I announced last year, builds on the hopeful path of the ADA. It provides Americans with disabilities increased access to assistive technologies, expands educational options, and increases opportunities for them to integrate into our workforce. We are committed to ensuring the delivery of vital services to disabled persons in an integrated, community-based setting.

My Administration will continue to enforce the Americans with Disabilities Act, and we will work with businesses and State and local governments to increase partnerships that promote the purposes of the ADA. Together, we are working for a day when all people with disabilities are able to live and work with dignity, freedom, and independence and realize their potential as fully integrated members of our society.

NOW, THEREFORE, I, GEORGE W. BUSH, President of the United States of America, by virtue of the authority vested in me by the Constitution and laws of the United States, do hereby proclaim July 26, 2002, as a day in celebration of the 12th Anniversary of the Americans with Disabilities Act. I call upon public officials, business leaders, people with disabilities, and all Americans to pursue the ADA's full promise of equal opportunity and to celebrate the expanded freedom that the ADA has brought to American life.

IN WITNESS WHEREOF, I have hereunto set my hand this twenty-sixth day of July, in the year of our Lord two thousand two, and of the Independence of the United States of America the two hundred and twenty-seventh.

B

[FR Doc. 02-19401

Filed 7-29-02; 10:52 am]

Billing code 3195-01-P